DEPARTMENT OF VETERANS AFFAIRS

Privacy Act of 1974: System of Records

AGENCY: Department of Veterans Affairs (VA).

ACTION: Notice of Amendment of System of Records—Police and Security Records—VA (103VA07B).

SUMMARY: As required by the Privacy Act of 1974, 5 U.S.C. 552a(e), notice is hereby given that the Department of Veterans Affairs (VA) is amending the system of records entitled “Police and Security Records—VA” (103VA07B) as set forth in 67 FR 77737 dated December 19, 2002. VA is amending the system of records by revising the section of Routine Uses of Records Maintained in the System; as such VA is republishing the system notice in its entirety.

DATES: Comments on the amended system of records must be received no later than January 7, 2009. If no public comment is received during the period allowed for comment or unless otherwise published in the Federal Register by VA, the amended system will become effective January 7, 2009.

ADDRESSES: Written comments may be submitted through www.Regulations.gov; by mail or hand-delivery to the Director, Regulations Management (02REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 461-4902 for an appointment. In addition, during the comment period, comments may be viewed online through the Federal Docket Management System (FDMS) at www.Regulations.gov.

FOR FURTHER INFORMATION CONTACT: Director, Police Service (07B), Department of Veterans Affairs, 810 Vermont Avenue, NW., Washington, DC 20420, telephone (202) 461-5544.

SUPPLEMENTARY INFORMATION:

Description of the Amended Systems of Records

The Office of Security and Law Enforcement oversees the maintenance of law and order and the protection of persons and property on Department property at facilities nationwide and at the Central Office facilities in Washington, DC metropolitan area. This amended system of records covers veterans, U.S. government employees, retirees, volunteers, contractors, subcontractors, or private citizens involved in certain Police Services activities at field facilities and Office of Security and Law Enforcement activities at VA Central Office. The records contained in the system will be comprised of the Police and Security Software Package (PSSP) that contains information retrieved by name or personal identifier (master name index file, quick name check, offense reports, violations, motor vehicle registrations, wants and warrants, police daily operations journal, and police officer training records); and records not contained in the PSSP at all facilities and are retrieved by name or personal identifier may be photographs, uniform offense reports, accident reports, information on identification cards, records of evidence and property, and records of citations. The authority to maintain these records is Title 38, United States Code (U.S.C.), Section 501 and 901-905. The records and information contained in this system of records are necessary for the effective administration and management of the Department's nationwide Security and Law Enforcement program. This requires the collection and use of accurate, up-to-date data for the purpose of enforcing the law and protecting persons and property on VA property and at VA Central Office in accordance with Title 38, U.S.C., Chapter 9. Records in the system are maintained electronically and on paper and are retrieved by the name of the individual or personal identifier such as partial or full social security number.

The following routine uses for information in this system are added or restate existing uses to this system.

1. The record of an individual covered by this system of records may be disclosed to a Member of Congress, or a staff person acting for the Member, when the Member or staff person requests the record on behalf of and at the written request of the individual.

2. Disclosure may be made to the National Archives and Records Administration in records management inspections conducted under the authority of Title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or sub-contractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

Compatibility of the Proposed Routine Uses

The Privacy Act permits disclosure of information about individuals without their consent for a routine use when the information will be used for a purpose that is compatible with the purpose for which the information is collected. In all of the routine use disclosures described above, either the recipient of the information will use the information in connection with a matter relating to one of VA's programs; to provide a benefit to VA; or because disclosure is required by law.

The notice of intent to amend and an advance copy of the system notice have been sent to the appropriate Congressional committees and to the Administrator of Office of Management and Budget (OMB) as required by 5 U.S.C. 552a(r) (Privacy Act) and guidelines issued by OMB (65 FR 77677), December 12, 2000.

Approved: November 13, 2008.
Gordon H. Mansfield,
Deputy Secretary of Veterans Affairs.

103VA07B

SYSTEM NAME:

Police and Security Records—VA.

SYSTEM LOCATION:

VA Police personnel maintain electronic and paper records at VA field facilities and VA Central Office, 810 Vermont Ave, NW., Washington, DC 20420. Address locations for VA facilities can be found at http://www.va.gov.

CATEGORIES OF INDIVIDUALS COVERED BY THE SYSTEM:

Veterans, VA Police officers, U.S. government employees, retirees, contractors, subcontractors, volunteers, and other individuals, including private citizens, who:

1. Have been a complainant, a witness, a victim, or a subject of an investigation of a violation or of an alleged violation of a law on VA property;

2. Have been a witness or a victim when there has been a VA police response to a report of a missing patient;

3. Have been witness to, or involved in, a motor vehicle accident on VA property;

4. Have been a witness, victim, or subject when there has been a VA police response to provide assistance to VA employees;

5. Have registered a motor vehicle with VA police;

6. Have had property confiscated by VA police or whose property has been given to VA police for safekeeping; or

7. For whom a VA identification card has been prepared.

CATEGORIES OF RECORDS IN THE SYSTEM:

Police and law enforcement records, containing specific identification of persons, can be found in electronic and/or paper medium:

1. Master Name Index contains demographic information (i.e., name, address, date of birth, sex) and descriptive information such as height, weight, hair color, eye color, and scars or marks.

2. Quick Name Check allows for the immediate retrieval of information based on a name from files contained within the law enforcement records subject to this system of records notice.

3. VA Police Uniform Offense Reports, Investigative Notes, Case Log, and other documentation assembled during an investigation. Uniform Offense Reports contain information of all types of offenses and incidents, criminal and non-criminal, that occur at a facility and to which VA Police respond (e.g., criminal investigations, investigative stops, patient and staff assistance calls, missing patient searches, and motor vehicle accidents).

4. All violation information and copies of U.S. District Court Violation Notices and Courtesy Warnings issued by VA Police.

5. On-station vehicle registration records used for identifying vehicle owners at a facility.

6. Records pertaining to individuals with outstanding warrants, summons, court commitments, or other types of legal process.

7. Daily Operations Journal records include names and other personal identifying information of persons with whom VA police have had official, duty-related contact.

8. VA Police officer training records.

9. Photographs of any and all persons and/or scenes pertinent to an incident or investigation;

10. Motor vehicle registrations;

11. Identification cards with photographic images for veterans, U.S. government employees, retirees, volunteers, contractors, subcontractors, or private citizens;

12. Records of evidence, confiscated property, or property being held for safekeeping.

AUTHORITY FOR MAINTENANCE OF THE SYSTEM:

Title 38 United States Code (U.S.C), Section 501 and Sections 901-905.

PURPOSE(S):

The records and information contained in this system of records are necessary for the effective administration and management of the Department's nationwide Security and Law Enforcement Program. The collection and use of accurate, up-to-date data is necessary for the purpose of enforcing the law and protecting persons and property on VA property. Examples: ID cards are used to visibly identify employees, contractors, students, and other designated individuals from the general public. ID cards also serve as a means of access control to a facility. Motor vehicle registration records serve to accurately identify the owner of a vehicle and the suitability of its presence on VA grounds. These records are also used for a VA facility's ride sharing program. Evidence or confiscated property records are used to accurately track and record the chain of custody maintained by the VA police.

ROUTINE USES OF RECORDS MAINTAINED IN THE SYSTEM, INCLUDING CATEGORIES OF USERS AND THE PURPOSES OF SUCH USES:

1. The record of an individual who is covered by this system of records may be disclosed to a Member of Congress, or a staff person acting for the Member, when the Member or staff person requests the record on behalf of and at the written request of the individual.

2. Disclosure may be made to the National Archives and Records Administration in records management inspections conducted under the authority of Title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or sub-contractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, State, local, tribal, or foreign agency charged with the responsibility of investigating or prosecuting such violation, or charged with enforcing or implementing the statute, regulation, rule or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in Title 38 U.S.C. 5724, as the terms are defined in Title 38 U.S.C. 5727.

8. Disclosure may be made to the DoJ and United States attorneys in defense or prosecution of litigation involving the United States, and to Federal agencies upon their request in connection with review of administrative tort claims filed under the Federal Tort Claims Act, Title 28 United States Code, Section 2672.

9. Any information in this system, except the name and address of a veteran, may be disclosed to a Federal, State, or local agency maintaining civil or criminal violation records or other pertinent information such as prior employment history, prior Federal employment background investigations, and/or personal or educational background in order for VA to obtain information relevant to the hiring, transfer, or retention of an employee, the letting of a contract, the granting of a security clearance, or the issuance of a grant or other benefit. The name and address of a veteran may be disclosed to a Federal agency under this routine use if this information has been requested by the Federal agency in order to respond to the VA inquiry.

10. Information in this system regarding traffic accidents may be disclosed to private insurance companies for use in determining payment of a claim under a policy.

11. To assist attorneys in representing their clients, any information in this system may be disclosed to attorneys representing veterans, U.S. government employees, retirees, volunteers, contractors, subcontractors, or private citizens being investigated and prosecuted for violating the law, except where VA has decided release is inappropriate under Title 5 United States Code, Section 552a(j) and (k).

12. Disclosure of information to the Federal Labor Relations Authority (including its General Counsel) when requested in connection with the investigation and resolution of allegations of unfair labor practices; in connection with the resolution of exceptions to arbitrator awards when a question of material fact is raised; in connection with matters before the Federal Service Impasses Panel; and to investigate representation petitions and conduct or supervise representation elections.

13. Information may be disclosed to the Equal Employment Opportunity Commission when requested in connection with investigations of alleged or possible discrimination practices, examination of Federal affirmative employment programs, compliance with the Uniform Guidelines of Employee Selection Procedures, or other functions vested in the Commission by the President's Reorganization Plan No. 1 of 1978.

14. Information may be disclosed to officials of the Merit Systems Protection Board, and the Office of the Special Counsel, when requested in connection with appeals, special studies of the civil service and other merit systems, review of rules and regulations, investigation of alleged or possible prohibited personnel practices, and such other functions, promulgated in Title 5 United States Code, Sections 1205 and 1206, or as may be authorized by law.

15. Disclosure may be made to the VA-appointed representative of an employee of all notices, determinations, decisions, or other written communications issued to the employee in connection with an examination ordered by VA under medical evaluation (formerly fitness-for-duty) examination procedures or Department-filed disability retirement procedures.

POLICIES AND PRACTICES FOR STORING, RETRIEVING, ACCESSING, RETAINING AND DISPOSING OF RECORDS IN THE SYSTEM:

STORAGE:

VA Police Services maintain electronic and paper records at each VA facility and VA Central Office.

RETRIEVABILITY:

Information is retrieved by name or personal identifier of partial or full social security number.

SAFEGUARDS:

Access to working areas where information is maintained in VA facilities and VA Central Office is controlled and restricted to VA employees and VA contractors on a need-to-know basis. Paper document files are locked in a secure container when files are not being used and when work area is not occupied. VA facilities are protected from outside access after normal duty hours by police or security personnel. Access to information on electronic media is controlled by individually unique passwords and codes. Computer access authorizations, computer applications available and used, information access attempts, frequency and time of use are recorded and monitored.

RETENTION AND DISPOSAL:

Records will be maintained and disposed of in accordance with the records disposition authority approved by the Archivist of the United States.

SYSTEM MANAGER(S) AND ADDRESS:

Director, Police Service (07B), 810 Vermont Avenue, NW., Washington, DC 20420.

NOTIFICATION PROCEDURE:

An individual who wishes to determine whether a record is being maintained under his or her name in this system or wishes to determine the contents of such records should submit a written request or apply in person to the VA facility where the records are located. Addresses of VA facilities may be found at http://www.va.gov. A majority of records in this system are exempt from record access and amendment provisions of Title 5 U.S.C., Sections 552a(j) and (k). To the extent that records in this system are not subject to exemption, individuals may request access and/or amendment. A determination as to whether an exemption applies shall be made at the time a request for access or contest is received.

RECORD ACCESS PROCEDURE:

Individuals seeking information regarding access to and amendment of records in this system may write, call or visit the VA facility where the records are maintained.

CONTESTING RECORD PROCEDURES:

(See Record Access Procedure above)

RECORD SOURCE CATEGORIES:

Information is obtained from veterans, VA police officers, U.S. government employees, retirees, volunteers, contractors, subcontractors, other law enforcement agencies, and private citizens.

SYSTEMS EXEMPTED FROM CERTAIN PROVISIONS OF THE ACT:

Under Title 5 U.S.C., Section 552a(j)(2), the head of any agency may exempt any system of records within the agency from certain provisions of the Privacy Act, if the agency or component that maintains the system performs as its principal function any activities pertaining to the enforcement of criminal laws. The function of the Police Service is to provide for the maintenance of law and order and the protection of persons and property on Department property. This system of records has been created, in major part, to support the law enforcement related activities assigned by the Department under the authority of Title 38 U.S.C., Section 901 to the Police Service. These activities constitute the principal function of this staff.

In addition to principal functions pertaining to the enforcement of criminal laws, the Police Service may receive and investigate complaints or information from various sources concerning the possible existence of activities constituting noncriminal violations of law, rules, or regulations or substantial and specific danger to the public and safety.

Based upon the foregoing, the Secretary of Veterans Affairs (VA) has exempted this system of records, to the extent that it encompasses information pertaining to criminal law enforcement related activities from the following provisions of the Privacy Act of 1974, as permitted by 5 U.S.C. 552a(j)(2):

5 U.S.C. 552a(c)(3) and (4).

5 U.S.C. 552a(d)(1) through (4).

5 U.S.C. 552a(e)(1), (2) and (3).

5 U.S.C. 552a(e)(4)(G), (H) and (I).

5 U.S.C. 552a(e)(5) and (8).

5 U.S.C. 552a(f).

5 U.S.C. 552a(g).

The Secretary of Veterans Affairs has exempted this system of records, to the extent that it does not encompass information pertaining to criminal law enforcement related activities under 5 U.S.C. 552a(j)(2), from the following provisions of the Privacy Act of 1974, as permitted by 5 U.S.C. 552a(k)(2):

5 U.S.C. 552a(c)(3).

5 U.S.C. 552a(d)(1) through (4).

5 U.S.C. 552a(e)(1).

5 U.S.C. 552a(e)(4)(G), (H) and (I).

5 U.S.C. 552a(f).

Reasons for exemptions: The exemption of information and material in this system of records is necessary in order to accomplish the law enforcement functions of the Police Service, to prevent subjects of investigations from frustrating the investigatory process, to prevent the disclosure of investigative techniques, to fulfill commitments made to protect the confidentiality of sources, to maintain access to sources of information, and to avoid endangering these sources and Police personnel.

[FR Doc. E8-29029 Filed 12-5-08; 8:45 am]

BILLING CODE 8320-01-P